DEPARTMENT of THE INTERIOR

Fish and Wildlife Service

[FWS-HQ-ES-2015-N144]; [FF09E42000 156 FXES11130900000]

Endangered Species; Issuance of Permits

AGENCY: Fish and Wildlife Service, Interior.

ACTION: Notice of issuance of permits.

SUMMARY: We, the U.S. Fish and Wildlife Service, have issued the following permits to conduct certain activities with endangered and threatened species under the authority of the Endangered Species Act, as amended (Act). With some exceptions, the Act prohibits activities with listed species unless a Federal permit is issued that allows such activity. We provide this list for the convenience of the public as a summary of our permit issuances for the calendar year 2015.

FOR FURTHER INFORMATION CONTACT: See the contact information in the Permits Issued section.

SUPPLEMENTARY INFORMATION: We have issued the following permits to conduct activities with endangered and threatened species in response to recovery permit applications that we received under the authority of section 10(a)(1)(A) of the Act (16 U.S.C. 1531 et seq.). These permits were issued between January 1, 2015, and December 31, 2015. Each permit was issued only after we determined that it was applied for in good faith, that granting the permit would not be to the disadvantage of the listed species, that the proposed activities were for scientific research or would benefit the recovery or the enhancement of survival of the species, and that the terms and conditions of the permits were consistent with the purposes and policy set forth in the Act.

Permits Issued

Region 1 (Pacific Region: Hawaii and Other Pacific Islands, Idaho, Oregon (except for Klamath Basin), and Washington)

The following permits were applied for and issued in Region 1. For more information about any the following permits, contact the Recovery Permit Coordinator, by email at PermitsR1ES@fws.gov or by telephone at 503-231-6131.

Permit No. | Date issued | Applicant name
38768B | 01/06/15 | Micronesian Environmental Services.
017352 | 01/16/15 | Commonwealth of The Northern Mariana Islands.
132842 | 01/23/15 | Public Utility District No. 1 of Pend Oreille County.
233288 | 01/23/15 | ICF Jones and Stokes, Inc.
826600 | 02/09/15 | Hadfield, Michael G.
53931B | 02/10/15 | City of Bellingham.
060179 | 03/05/15 | Zoological Society of San Diego.
017352 | 03/20/15 | Commonwealth of The Northern Mariana Islands.
45531B | 03/20/15 | Hawaii Division of Forestry and Wildlife.
49208B | 03/20/15 | Summers, Tammy M.
003483 | 03/25/15 | U.S. Geological Survey, Biological Resources Discipline.
27877B | 04/08/15 | Haan, Nathan L.
56731B | 04/08/15 | AMEC Environment and Infrastructure, Inc.
014798 | 04/14/15 | Coeur d'Alene Tribe.
068143 | 04/30/15 | Eastern Washington University.
844468 | 04/30/15 | Confederated Tribes of the Umatilla Indian Reservation.
014497 | 05/07/15 | Haleakala National Park.
42195A | 05/07/15 | U.S. Department of the Navy, Naval Base Guam.
08964A | 05/07/15 | Ross, Dana N.
39372B | 05/08/15 | Institute For Natural Resources, Portland State University.
136964 | 05/21/15 | Washington Department of Natural Resources.
44312A | 05/27/15 | Mount Rainier National Park.
011423 | 05/27/15 | Washington Department of Ecology.
49790B | 06/08/15 | U.S. Geological Survey.
005885 | 06/11/15 | Seattle City Light.
56898B | 06/15/15 | Bowerman, William J.
58586B | 06/15/15 | Deschutes National Forest, U.S. Forest Service.
60820B | 06/15/15 | Willamette National Forest.
58481B | 06/15/15 | Biota Pacific Environmental Sciences.
39390B | 06/24/15 | Ecological Land Services, Inc.
64608B | 06/24/15 | Washington Department of Natural Resources.
64791B | 07/02/15 | Island County Department of Natural Resources.
63382B | 07/15/15 | Nyman, Stephen.
702631 | 07/16/15 | U.S. Fish and Wildlife Service, Region 1.
49790B | 07/16/15 | U.S. Geological Survey.
39991B | 08/03/15 | University of Washington Botanic Gardens.
802107 | 08/05/15 | Baird, Patricia A.
72492B | 08/20/15 | Electron Hydro, LLC.
56898B | 08/24/15 | Bowerman, William J.
041023 | 09/02/15 | Department of the Army.
844489 | 09/10/15 | Deschutes National Forest, U.S. Forest Service.
71541A | 09/28/15 | Confederated Tribes of The Warm Springs Reservation.
67121B | 10/22/15 | Pacific Rim Conservation.
192390 | 11/12/15 | James, Paul W.
99618A | 12/02/15 | Rock, Dennis F.
043628 | 12/17/15 | Institute For Applied Ecology.

Region 2 (Southwest Region: Arizona, New Mexico, Oklahoma, and Texas)

The following permits were applied for and issued in Region 2. For more information about any the following permits, contact the Recovery Permit Coordinator, by email at PermitsR2ES@fws.gov or by telephone at 505-248-6665.

Permit No. | Date issued | Applicant name
822908 | 01/12/15 | Caesar Kleberg Wildlife Research Institute.
150490 | 01/20/15 | Maresh, John P.
60125 | 01/20/15 | Salt River Project Agricultural Improvement and Power District.
053085 | 01/23/15 | Bureau of Reclamation—Boulder City.
836329 | 02/04/15 | Blanton and Associates.
188015 | 02/05/15 | Pueblo of Santa Ana—Natural Resources.
52821B | 02/05/15 | Conley, Dillan W.
48908B | 02/05/15 | Mickinney, Jeremiah C.
89061A | 02/06/15 | Arizona State University School of Life Sciences.
52824B | 02/06/15 | Clearwater Underground Water Conservation District.
51928B | 02/16/15 | Moczygemba, Kevin J.
802211 | 02/16/15 | Texas State University—San Marcos.
841353 | 02/24/15 | Bowman Consulting Group, Ltd.
48572B | 03/02/15 | Cienega Environmental, Inc.
44547B | 03/02/15 | Dixon, Thomas P.
144755 | 03/02/15 | Reagan Smith Energy Solutions, Inc.
58946B | 03/02/15 | Gsi Engineering, Llc.
58947B | 03/02/15 | Ck Associates, Llc.
51930B | 03/02/15 | Rizzo, Alex K.
800611 | 03/02/15 | Swca Environmental Consultants, San Antonio.
063395 | 03/04/15 | Jenks Aquarium Authority.
44545B | 03/04/15 | Horvath, Michael J.
233205 | 03/04/15 | Bonn, Thomas D.
050706 | 03/13/15 | Western Ecosystems Technology, Inc.
045236 | 03/13/15 | SWCA Environmental Consultants.
833851 | 03/16/15 | City of Austin—Watershed Protection Department.
25609A | 03/16/15 | The Peregrine Fund.
37418B | 03/16/15 | Braown and Gay Engineers, Inc.
195248 | 03/16/15 | Morrison, Michael L.
35147A | 03/20/15 | Newstead, David J.
798920 | 03/23/15 | City of Austin.
040341 | 03/23/15 | Larsen, William Charles.
835139 | 03/23/15 | Hawks Aloft, Inc.
830213 | 03/24/15 | Eco Plan Associates, Inc.
71870A | 03/25/15 | Western Area Power Administration.
123070 | 03/27/15 | Morales, Susana M.
08548B | 03/27/15 | USGS- Sonoran Desert Research Station.
776123 | 03/31/15 | Texas A and M University—Galveston.
819541 | 03/31/15 | Ecosystem Management, Inc.
842565 | 03/31/15 | Cibola National Forest.
97824A | 03/31/15 | Smith Environmental Research and Consulting House.
814933 | 04/03/15 | Texas Parks and Wildlife Department.
038055 | 04/03/15 | University of New Mexico.
082496 | 04/03/15 | Joint Base San Antonio—Natural Resources.
62878B | 04/03/15 | Hammerhead Resources, Llc.
28891A | 04/06/15 | Tristan, Timothy.
51929B | 04/06/15 | Clark, Timothy G.
24623A | 04/07/15 | Miller Park Zoo.
43777A | 04/10/15 | Sea Life US, Llc.
055419 | 04/15/15 | Turner Biological Consulting, Llc.
37946B | 04/20/15 | Wright, Marjorie A.
001623 | 04/22/15 | American Southwest Ichthyological Researchers.
35147A | 04/22/15 | Newstead, David J.
52820B | 04/22/15 | Harmon, Vonceil.
48437B | 04/22/15 | Jones, Jann S.
48847A | 04/23/15 | Texas A and M University At Galveston.
146407 | 04/24/15 | Belaire Environmental, Inc. (BEI).
205717 | 04/24/15 | Collins, Valerie M.
48435B | 04/30/15 | Dickinson, Kevin S.
58243B | 05/04/15 | Hill , Austin E.
168688 | 05/04/15 | Itz, Sarah N.
35619A | 05/04/15 | Miller, Marvin J.
61040B | 05/04/15 | Shenandoah Deer Services Llc.
48766A | 05/06/15 | Grabowski, Timothy B.
35163A | 05/06/15 | Grzybowski, Joseph A.
091551 | 05/06/15 | U.S. Fish and Wildlife Service, Region 2.
61124B | 05/11/15 | Creighton, J. Curtis.
58781A | 05/12/15 | University of Arizona.
064085 | 05/15/15 | Rodden, Iris E.
091552 | 05/18/15 | Homesley, Zane N.
195191 | 05/18/15 | Baer Engineering and Environmental Consulting, Inc.
829995 | 05/18/15 | Dallas Zoo and Aquarium.
051819 | 05/19/15 | Fort Worth Zoological Park.
837751 | 05/22/15 | Bureau of Reclamation. Phoenix.
66055A | 05/22/15 | The Navajo Nation.
52561B | 05/22/15 | Teague, Trevor N.
52562B | 05/22/15 | Turner, Andrew J.P.
082497 | 05/27/15 | Huggins Enterprises, Llc.
54802B | 05/28/15 | Phillips-Schaap, Megan Elizabeth.
27791B | 05/29/15 | National Park Service—Montezuma Castle and Tuzigoot Monuments.
037118 | 05/29/15 | Carroll, Scott E.
819475 | 05/29/15 | Bureau of Reclamation.
082498 | 05/29/15 | National Park Service—Flagstaff Area National Monuments.
043399 | 06/05/15 | Eagle Environmental Consulting, Inc.
42737A | 06/05/15 | Sevenecoten, Llc.
64619B | 06/05/15 | Wood, Dustin A.
08548B | 06/05/15 | USGS—Sonoran Desert Research Station.
830213 | 06/10/15 | Eco Plan Associates, Inc.
43324B | 06/10/15 | Goode, Matthew J.
63200B | 06/10/15 | Audubon Arizona.
146501 | 06/12/15 | Oklahoma Conservation Commission.
000948 | 06/15/15 | Western New Mexico University.
819477 | 06/15/15 | Parametrix.
61045B | 06/15/15 | Scott, Jennifer D.
23162B | 06/18/15 | Herman, Eric L.
207863 | 06/19/15 | AECOM.
819458 | 06/19/15 | Organ Pipe Cactus National Monument.
826091 | 06/19/15 | Bureau of Land Management—Phoenix.
30430B | 06/22/15 | University of Houston—Clear Lake.
52816B | 06/26/15 | Davis, David H.
028605 | 06/26/15 | SWCA Environmental Consultants—Flagstaff.
63522B | 07/02/15 | Laney Environmental Consulting.
61048B | 07/02/15 | Veteran Environmental, Llc.
63523B | 07/02/15 | Medina Consulting Company, Inc.
023643 | 07/03/15 | Us Army, III Corps and Fort Hood.
236730 | 07/03/15 | Bonner, Timothy H.
023159 | 07/06/15 | Sora.
011464 | 07/06/15 | Vaughn, Caryn C.
41814B | 07/06/15 | Tucson Audubon Society.
828830 | 07/10/15 | Bureau of Land Management—Tucson Field Office.
44542B | 07/10/15 | Olsson Associates.
821577 | 07/10/15 | Arizona Game and Fish Department.
170625 | 07/10/15 | Howard, Daniel R.
066229 | 07/15/15 | Whitenton Group, Inc. Environmental Consultants.
37484A | 07/15/15 | Balcones Canyonlands National Wildlife Refuge.
169770 | 07/17/15 | New Mexico Interstate Stream Commission.
833866 | 07/17/15 | Texas Forest Service.
43746A | 07/20/15 | Northern Arizona University.
63202B | 07/20/15 | Chambers, Carol L.
006655 | 07/20/15 | Logan Simpson Design, Inc.
33863A | 07/20/15 | Blackburn, Deborah K.
820730 | 07/21/15 | New Mexico Energy, Minerals And Natural Resources Department.
053839 | 07/21/15 | Sme Environmental Consultants.
004439 | 07/21/15 | Albuquerque Biological Park.
07059A | 07/21/15 | Marsh, Paul C.
64968A | 07/21/15 | Apex Companies, Llc.
022190 | 07/23/15 | Arizona-Sonora Desert Museum.
206016 | 07/24/15 | Middick, Andrew R.
35438B | 08/07/15 | Bradley, Anne F.
50643B | 08/07/15 | Weaver, Vaughn D.
38748A | 08/12/15 | Carlotta Copper Company.
189566 | 08/12/15 | Geick, Monica.
828640 | 08/19/15 | Harris Environmental Group.
42739A | 08/20/15 | Sea Life Arizona.
71618A | 08/26/15 | Museum of Southwestern Biology—UNM Herbarium.
821356 | 08/26/15 | Grand Canyon Monitoring And Research Center, USGS.
67919B | 09/01/15 | Kartye Land Management Llc.
08394B | 09/18/15 | U.S. Forest Service.
73966B | 09/18/15 | Arizona State Parks.
72065A | 09/18/15 | Prescott National Forest.
051832 | 09/18/15 | Phoenix Zoo.
69881B | 09/18/15 | Larsen, Brendan B.
88519A | 09/21/15 | U.S. Forest Service.
60111B | 09/21/15 | Robb, Natalie J.
67917B | 09/23/15 | Gabor, Caitlin R.
822998 | 09/25/15 | U.S. Forest Service.
797127 | 09/25/15 | U.S. Army COE, Albuquerque.
800923 | 09/25/15 | University of Arizona.
73319B | 09/25/15 | Thompson, Brent E.
64622B | 09/28/15 | Granillo, Kathy A.
64624B | 09/28/15 | Johnson, Cassidy B.
78097B | 10/01/15 | Aslan, Clare E.
73330B | 10/01/15 | Hargrove, Phillip W.
819528 | 10/06/15 | New Mexico Natural Heritage Program.
63195B | 10/06/15 | Stoner, Kathryn E.
64311A | 10/06/15 | Arizona Department of Emergency and Military Affairs.
59580A | 10/09/15 | Rocky Mountain Ecology.
834782 | 10/15/15 | Westland Resources, Inc.
819473 | 10/20/15 | Grand Canyon National Park.
815409 | 10/23/15 | New Mexico Department of Game and Fish.
037780 | 10/30/15 | Texas Westmoreland Coal Company.
97830A | 11/02/15 | USFWS—Ozark Plateau National Wildlife Refuge.
103480 | 11/02/15 | Campbell, Carianne S.
842583 | 11/02/15 | La Tierra Environmental Consulting.
30425B | 11/02/15 | Hagyari, David K.
068189 | 11/02/15 | Archaeological Consulting Services, Ltd.
58490B | 11/02/15 | Krebbs, Karen.
73321B | 11/10/15 | Paroz, Yvette M.
72324B | 11/10/15 | Dill, Lauren A.
43754A | 11/12/15 | Turner Endangered Species Fund.
78960A | 11/13/15 | Federal Emergency Management Agency.
212451 | 11/16/15 | Ortiz, Peter R.
181762 | 11/23/15 | Sea Turtle, Inc.
053104 | 11/24/15 | ACI Group, Llc.
676811 | 11/24/15 | U.S. Fish and Wildlife Service, Region 2.
43322B | 11/25/15 | Nowak, Erika M.
840214 | 12/04/15 | Luminant Power.
65846A | 12/04/15 | Saguaro National Park.
73317B | 12/18/15 | Britt, Charles R.

Region 3 (Midwest Region: Illinois, Indiana, Iowa, Michigan, Minnesota, Missouri, Ohio, and Wisconsin)

The following permits were applied for and issued in Region 3. For more information about any the following permits, contact the Recovery Permit Coordinator, by email at PermitsR3ES@fws.gov or by telephone at 612-713-5343.

Permit No. | Date issued | Applicant name
19777A | 01/15/15 | Volk Field-CRTC-ANG.
02560A | 05/01/15 | Carter, Timothy C.
35859B | 06/09/15 | Mills, Charles E.
64238B | 06/12/15 | Karsk, Jocelyn.
697830 | 06/15/15 | U.S. Fish and Wildlife Service.
07358A | 06/17/15 | Civil and Environmental Consultants, Inc.
64079B | 06/17/15 | Minnesota Zoological Garden.
64073B | 06/19/15 | Ecological and GIS Services.
64077B | 06/19/15 | Krych, Scott A.
21829B | 06/22/15 | Bishop-Boros, Larisa J.
64070B | 07/02/15 | SWCA, Inc.
31055B | 07/13/15 | Armstrong, Kory.
89557A | 07/15/15 | TRC Companies, Inc.
82666A | 07/15/15 | Boyles, Justin G.
64235B | 07/16/15 | O'Leary, William G.
151109 | 07/17/15 | Ohio Division of Wildlife.
64074B | 07/27/15 | Zeyzus, Julie A.
71508B | 08/14/15 | Weber, Justine E.
06841A | 09/29/15 | U.S. Fish and Wildlife Service.
60257B | 10/01/15 | Missouri Department of Conservation.
11035A | 10/05/15 | Vande Kopple, Robert J.
06846A | 10/07/15 | Smithsonian Institution.
38860A | 10/08/15 | Garvon, Jason M.
64082B | 10/08/15 | Beckman, Daniel W.
71516B | 10/08/15 | Olsson Associates.
72089B | 10/09/15 | Michigan Technological University.
06801A | 10/29/15 | Pittsburgh Wildlife and Environmental, Inc.
64081B | 10/30/15 | Hoyt, Joseph R.
809630 | 11/03/15 | Kurta, Allen.
38769A | 11/06/15 | Bradley, Sarah A.
38842A | 11/06/15 | Sanders Environmental Inc.
38866A | 11/06/15 | U.S. Geological Survey.
144832 | 11/16/15 | Detroit Zoological Society.
74488B | 11/18/15 | Missouri Cooperative Research Unit.
60133B | 12/04/15 | University of Minnesota.
105320 | 12/08/15 | Tragus Environmental Consulting, Inc.
120231 | 12/08/15 | Timpone, John C.
64078B | 12/09/15 | Toledo Zoological Zoo.
64237B | 12/22/15 | York-Harris, Megan B.
805269 | 12/23/15 | Soluk, Daniel A.
06845A | 12/31/15 | Lochmueller Group.
35518B | 12/31/15 | Sheets, Jeremy J.
30970B | 12/31/15 | Miller, Jeffrey C.
151107 | 12/31/15 | Redwing Ecological Services, Inc.
60958A | 12/31/15 | Bat Calls Identification, Inc.
62286A | 12/31/15 | Whittle, Jason B.

Region 4 (Southeast Region: States of Alabama, Arkansas, Florida, Georgia, Kentucky, Louisiana, Mississippi, North Carolina, South Carolina, and Tennessee; the Commonwealth of Puerto Rico; and the Virgin Islands of the United States)

The following permits were applied for and issued in Region 4. For more information about any of the following permits, contact the Recovery Permit Coordinator, by email at PermitsR4ES@fws.gov or by telephone at 404-679-7097.

Permit No. | Date issued | Applicant name
91373A | 01/28/15 | Miller, Jonathan M.
79580A | 01/28/15 | Butler, Jason M.
139474 | 01/28/15 | Ftn Associates, Ltd.
206784 | 01/30/15 | Bailey, William E.
24343B | 01/30/15 | EGIS, Inc.
37524B | 02/02/15 | The Florida Aquarium.
94669A | 02/02/15 | Toledo Zoological Gardens.
02200B | 02/09/15 | Atlanta Botanical Garden.
37490B | 02/10/15 | Littrell, Melissa Toncray.
142294 | 02/18/15 | Holimon, William (Bill) C.
48049B | 02/24/15 | Cunningham, Kathryn A.
81756A | 03/03/15 | Robinson, Jason B.
37900B | 03/03/15 | Lauerman, Sarah A.
48576B | 03/03/15 | Wood, Carson D.
237549 | 03/03/15 | The Nature Conservancy, Tennessee Chapter.
59943B | 03/03/15 | Boles, Tricia Fay.
23583B | 03/06/15 | Ober, Holly K.
077175 | 03/06/15 | Best, Troy L.
48579B | 03/06/15 | Ecological Solution Inc.
37663B | 03/06/15 | Ijames, Rebecca D.
125620 | 03/06/15 | Burns and Mcdonnell Engineering Company, Inc.
102418 | 03/09/15 | Florida Army National Guard.
119937 | 03/09/15 | Loeb, Susan C.
94704A | 03/25/15 | Brown, Dorothy C.
37666B | 03/30/15 | Allen, Jessica L.
096554 | 04/01/15 | Biological Systems Consultant, Inc.
62857B | 04/02/15 | Bear, Donna L.
22570A | 04/03/15 | Nashville Zoo.
697819 | 04/08/15 | Fish and Wildlife Service, Region 4.
066980 | 04/09/15 | J.W. Jones Ecological Research Center, Ichauway Inc.
63633A | 04/09/15 | Biodiversity Research Institute.
27608B | 04/13/15 | Mcgehee Engineering Corporation.
37492B | 04/13/15 | Grow, Anthony Christopher.
48582B | 04/14/15 | Romano, Kim A.
51145B | 04/15/15 | Ashton, Kyle G.
63888B | 04/16/15 | Museum of Science Inc.
48386B | 04/20/15 | Department of Defense.
102292 | 04/20/15 | Jackson, Jeremy L.
56749B | 04/20/15 | Moore, Patrick R.
53149B | 04/20/15 | Otto, Hans W.
083085 | 04/21/15 | Menges, Eric S.
070584 | 05/01/15 | Gumbert, Mark W.
18825B | 05/13/15 | Savidge, Timothy W.
070796 | 05/13/15 | Apogee Environmental Consultants.
63349B | 06/01/15 | Lindeman, Peter V.
129703 | 06/11/15 | Hmb Professional Engineers, Inc.
051429 | 06/15/15 | Mosaic Fertilizer, Llc.
100012 | 06/16/15 | Share The Beach.
41910B | 06/17/15 | Rush, Scott A.
54578B | 06/18/15 | Frazer, Mary E.
78919A | 06/23/15 | East Coast Zoological Society.
100070 | 06/24/15 | USDA Forest Service—Bankhead Ranger District.
061069 | 06/29/15 | Smith, Mark R.
816862 | 07/01/15 | Settles, Joseph.
38906B | 07/28/15 | National Parks Service.
075913 | 08/10/15 | Risch, Thomas S.
56430B | 08/11/15 | Hootman, Jonathan R.
60238B | 08/21/15 | Georgia Museum of Natural History.
13844A | 08/21/15 | Miller, Anthony T.
64232B | 08/25/15 | Young, Joshua R.
38519A | 08/26/15 | Cardno Entrix.
108584 | 09/01/15 | Nehus, Tim J.
59798B | 09/03/15 | Daguna Consulting Llc.
237545 | 11/04/15 | Lavoie, Michael J.
37219B | 11/06/15 | Perry, Roger W.
32397A | 11/12/15 | Godwin, James C.
21809A | 11/19/15 | Folk, Monica L.
087176 | 11/23/15 | Eisenhour, David J.
237535 | 11/27/15 | Bok Tower Gardens.
206741 | 11/30/15 | Metro Water Services.
66445B | 12/01/15 | Fowler, Angelina D.
049654 | 12/14/15 | Gordon, William D.
37498B | 12/14/15 | Everglades Research and Education Center.
117769 | 12/18/15 | Schoech, Stephan J.

Region 5 (Northeast Region: Connecticut, Delaware, Maine, Maryland, Massachusetts, New Hampshire, New Jersey, New York, Pennsylvania, Rhode Island, Vermont, Virginia, and West Virginia)

The following permits were applied for and issued in Region 5. For more information about any the following permits, contact the Recovery Permit Coordinator, by email at PermitsR5ES@fws.gov or telephone 703-358-2402.

Permit No. | Date issued | Applicant name
86197B | 03/17/15 | Weldon, Prescott.
86343B | 03/24/15 | Carlin, John.
86345B | 04/04/15 | Knorr, David.
86357B | 04/06/15 | Feller, Daniel J.
86358B | 07/24/15 | Zydlewski, Joseph D.
86357B | 09/03/15 | Feller, Daniel J.
86359B | 09/15/15 | Riexinger, Patricia.
86361B | 10/02/15 | Winslow, Kyle.
86362B | 10/16/15 | Galbraith, Heather.

Region 6 (Mountain-Prairie Region: Colorado, Kansas, Montana, Nebraska, North Dakota, South Dakota, Utah, and Wyoming)

The following permits were applied for and issued in Region 6. For more information about any the following permits, contact the Recovery Permit Coordinator, by email at PermitsR6ES@fws.gov or by telephone 719-628-2670.

Permit No. | Date issued | Applicant name
25496B | 01/23/15 | Marette, Brandon B.
091149 | 02/05/15 | Confederated Salish and Kootenai Tribes.
49168B | 03/09/15 | Ortega, Catherine P.
00670A | 03/09/15 | South Dakota Game, Fish and Parks.
103272 | 03/16/15 | Virginia Polytechnic Institute.
45150 | 05/14/15 | Oklahoma State University.
060668 | 05/01/15 | Bellini Environmental Consulting.
43046A | 05/27/15 | Mammoliti, Kirk M.
56902B | 05/27/15 | Bureau of Reclamation.
227446 | 05/27/15 | Clifton Sanitation District.
704930 | 05/28/15 | U.S. Fish and Wildlife Service.
059369 | 06/01/15 | Colorado State University.
63418B | 06/01/15 | US Forest Service, Superior Ranger District.
232905 | 06/15/15 | Como Park Zoo and Conservatory.
207946 | 06/15/15 | Bureau of Reclamation.
54237 | 07/01/15 | USDA Forest Service—Rocky Mountain Region.
66969B | 07/01/15 | Cemml—Colorado State University.
183430 | 07/13/15 | Headwaters Corporation.
66969B | 07/23/15 | Colorado State University.
54237 | 07/23/15 | USDA Forest Service.
46971A | 07/27/15 | USDA Forest Service.
01741B | 07/28/15 | Colorado Department of Transportation.
64613B | 08/01/15 | Phillips, Andrew L.
66505B | 08/01/15 | Wenck Associates.
50643B | 08/07/15 | Weaver, Vaughn D.
161444 | 08/10/15 | California Academy of Sciences.
237960 | 08/10/15 | Power Engineers.
66510B | 09/01/15 | North Dakota State University.
12513A | 09/08/15 | University of Colorado—Denver.
65809B | 09/01/15 | Dankert, Neil E.
07858A | 09/09/15 | Utah State University.
66521B | 09/09/15 | Western Biology, Llc.
106387 | 10/05/15 | US Forest Service, Bridger-Teton National Forest.
053925 | 10/13/15 | National Park Service.
65611B | 10/22/15 | Skadsen, Dennis.
66113B | 10/14/15 | Reiser, Jim M.

Region 7 (Alaska Region)

The following permits were applied for and issued in Region 7. For more information about any the following permits, contact the Recovery Permit Coordinator, by email at PermitsR7ES@fws.gov or by telephone 907-786-3472.

Permit No. | Date issued | Applicant name
042711 | 05/23/15 | Yukon Delta National Wildlife Refuge.
012155 | 06/22/15 | ABR, Inc.

Region 8 (Pacific Southwest Region: California, Nevada, and Klamath Basin Portion of Oregon)

The following permits were applied for and issued in Region 8. For more information about any the following permits, contact the Recovery Permit Coordinator, by email at PermitsCNES@fws.gov or by telephone at 760-431-9440.

Permit No. | Date issued | Applicant name
006559 | 01/03/15 | Powell, Dale A.
237086 | 01/07/15 | Orr, Bruce K.
43944A | 01/21/15 | Spies, Brenton T.
797267 | 01/30/15 | Triple Hs, Incorporated.
35387A | 01/30/15 | Glenn, Danielle C.
004234 | 01/30/15 | California Department of Parks and Recreation.
094893 | 01/30/15 | Santa Barbara Botanic Garden.
806679 | 01/30/15 | Spring Rivers Ecological Sciences, Llc.
181738 | 01/30/15 | U.S. Environmental Protection Agency.
100006 | 01/30/15 | Freeman Biological.
094318 | 02/13/15 | Vinje, Jessica S.
20186A | 02/13/15 | Huffman, Garrett R.
031913 | 02/13/15 | Ball, Morgan L.
41613B | 02/13/15 | Stewart, Mitch W.
839896 | 02/13/15 | Reed, Samuel J.
827494 | 02/13/15 | Riefner, Rick E.
72044A | 02/13/15 | Demetropoulos, Carl L.
203081 | 02/13/15 | Labonte, John P.
032713 | 02/13/15 | California Department of Transportation.
110382 | 02/13/15 | Edens, Ava R.
13636B | 02/13/15 | Hoffman, Michaela L.
41184B | 02/13/15 | Hyland, Mason D.
237061 | 02/13/15 | Chase, Daniel A.
41182B | 02/13/15 | Pope, Karen L.
89998A | 02/27/15 | Amalong, Matthew L.
104080 | 02/27/15 | Sykes, Stephen A.
33292B | 02/27/15 | Tehama Environmental Solutions, Incorporated.
43937B | 02/27/15 | Sloan, Robert L.
41181B | 02/27/15 | Addison, Clayton K.
110094 | 02/27/15 | Chapman, Todd A.
15544A | 03/20/15 | Beck, Christine L.
43642B | 03/20/15 | National Park Service—Redwood National Park.
41825B | 03/20/15 | Parker, Virgil T.
027422 | 03/20/15 | Pittman, Brian T.
108099 | 03/20/15 | Higginson, Jane.
218630 | 03/20/15 | Mendez, Irena M.
01769B | 04/01/15 | Reebs, Jesse L.
128462 | 04/03/15 | Feenstra, Jonathan S.
801346 | 04/03/15 | Rogers, Geoffrey L.
821229 | 04/03/15 | Crawford, David G.
832945 | 04/03/15 | Patterson, Lisa M.
58888A | 04/03/15 | Ritenour, Dale E.
43643B | 04/03/15 | Weiser, Barbara P.
50899B | 04/07/15 | Bonzey, Nicholas S.
02496A | 04/07/15 | Ghalambor, Kevin K.
09389A | 04/07/15 | Giolli, Michelle E.
114928 | 04/07/15 | Howe, John A.
09375A | 04/20/15 | Eliassen, Laura A.
808241 | 04/20/15 | Sonoma County Water Agency.
161496 | 04/20/15 | Halbert, Portia.
142435 | 04/21/15 | Shier, Debra M.
54716A | 04/27/15 | Harvey, Christine L.
829204 | 04/27/15 | Jones, Harry L.
53787B | 04/27/15 | Franklin, Heather A.
53922B | 04/27/15 | Wier, Emily A.
800930 | 05/04/15 | Marquez-Waller, Viviane J.
08592A | 05/22/15 | Zoological Society of San Diego.
14231A | 05/04/15 | Brungraber, Caesara W.
062125 | 05/22/15 | Bureau of Land Management—Mother Lode Field Office.
50466A | 05/22/15 | Humphrey, Rosanne L.
134333 | 05/22/15 | California State University—Chico.
14237A | 05/22/15 | Wildlife Science Consulting.
64124A | 05/25/15 | Rowe, Sean P.
148556 | 05/25/15 | Van Dooremolen, Deborah M.
062121 | 05/25/15 | Young, Ryan R.
837574 | 05/26/15 | Eremico Biological Services.
054011 | 05/26/15 | Green, John F.
804203 | 06/03/15 | AMEC.
148554 | 06/03/15 | Bonterra Psomas.
118641 | 06/04/15 | Mcgraw, Jodi M.
082233 | 06/05/15 | England, Marcus C.
804203 | 06/05/15 | Myers, Stephen J.
017549 | 06/05/15 | Whitfield, Mary J.
43668A | 06/05/15 | Braden, Gerald T.
807078 | 06/12/15 | Point Reyes Bird Observatory.
62708B | 06/12/15 | Halterman, Mary M.
62432B | 06/12/15 | Mcallister, Sean E.
085026 | 06/18/15 | Steinman, Jeff.
117947 | 06/19/15 | Clark, Kevin B.
148554 | 06/19/15 | Heredia, Amber O.
59592B | 06/19/15 | Johnson, Angela M.
46552A | 06/29/15 | Wasz, Kristen M.
022227 | 06/29/15 | Smead, Harry F.
35000A | 06/29/15 | University of California, Davis.
094642 | 06/30/15 | Shaffer, Howard B.
63440B | 07/22/15 | Thompson, Daniel B.
63422B | 07/22/15 | U.S. Forest Service.
59586B | 07/24/15 | Duff, Scott M.
56726A | 07/24/15 | Kern, Miki A.
50510A | 07/24/15 | Cline, Geoffrey D.
25164A | 07/24/15 | Little, Catherine A.
19226A | 07/24/15 | Moore, Jillian S.
59890B | 07/24/15 | Olberding Environmental, Inc.
25864A | 07/24/15 | Stolpe, Richard C.
799570 | 07/30/15 | Witham, Carol W.
049175 | 07/30/15 | Dicus, Melanie R.
43949B | 07/30/15 | Harrison, Joshua G.
114936 | 08/07/15 | Johnson, Bonnie J.
066621 | 08/07/15 | Naval Base Ventura County Point Mugu, Department of the Navy.
038701 | 08/07/15 | Peterson, Bonnie L.
026089 | 08/07/15 | Humboldt Redwood Company, Llc.
837309 | 08/07/15 | Misenhelter, Michael D.
811188 | 08/07/15 | Resource Conservation District of The Santa Monica Mountains.
43944A | 08/07/15 | Spies, Brenton T.
018177 | 08/07/15 | Hansen, Eric C.
42833A | 08/21/15 | Maunsell, Ian E.D.
168927 | 08/21/15 | Stokes, Drew C.
200339 | 08/21/15 | Foster, Sarah M.
50999B | 08/21/15 | Meisel, Autumn N.
039640 | 09/02/15 | Alberts, Kris R.
50992B | 09/02/15 | Gutierrez, Antonette T.
060175 | 09/28/15 | Gonzales, Teresa L.
095868 | 09/28/15 | Kisner, David A.
022630 | 09/28/15 | U.S. Geological Survey.
56626B | 09/28/15 | Dakin, Robin E.
56489B | 09/28/15 | Koehler, Jonathan T.
122026 | 09/28/15 | Bailey, Tracy Y.
787037 | 10/06/15 | Simovich, Marie A.
797267 | 11/02/15 | Triple Hs, Incorporated.
049461 | 11/09/15 | Marty, Jaymee T.
57161B | 11/09/15 | Wyckoff, Anna C.
59573B | 11/09/15 | Krause, Andrew P.
56034B | 11/09/15 | Huang, Joseph L.
034101 | 11/11/15 | Naval Facilities Engineering Comand, Southwest.
67390A | 11/12/15 | Smith, Benjamin J.
091463 | 11/12/15 | Hongola, Steven J.
162656 | 11/12/15 | Mc Connel, Patrick O.
044520 | 11/12/15 | Snibbe, Jenni J. K.
60106B | 11/12/15 | Sosa, Roland A.
6328 | 11/12/15 | Drake, Michael B.
057043 | 11/17/15 | Green Diamond Resource Company.
817397 | 11/17/15 | Storrer, John R.
188803 | 11/23/15 | USFWS—Stockton FWO.
72013A | 12/01/15 | Durand, John R.
809232 | 12/04/15 | Bio-West, Incorporated.
045994 | 12/04/15 | U.S. Geological Survey—Western Ecological Research Center.
30659A | 12/04/15 | Creekside Center For Earth Observation.
007907 | 12/04/15 | U.S. Geological Survey.
59158B | 12/04/15 | Newman, Darren P.
012973 | 12/14/15 | Ecorp Consulting, Inc.

Availability of Documents

Documents and other information submitted with these applications are available for review subject to the requirements of the Privacy Act and Freedom of Information Act, by any party who submits a written request for a copy of such documents.

Authority

We provide this notice under the authority of section 10 of the Act (16 U.S.C. 1531 et seq.).

Dated: February 4, 2016.
Don Morgan,
Chief, Branch of Recovery and State Grants.

[FR Doc. 2016-02723 Filed 2-11-16; 8:45 am]

BILLING CODE 4333-55-P